SMALL BUSINESS ADMINISTRATION

[Disaster Declaration #14641]

California Disaster #CA-00245 Declaration of Economic Injury

AGENCY: U.S. Small Business Administration.

ACTION: Notice.

SUMMARY: This is a notice of an Economic Injury Disaster Loan (EIDL) declaration for the State of California, dated 02/25/2016.

Incident: Hazardous Ocean Conditions and Rapid Displacement of Sand Resulting in the Closure of Ventura Harbor.

Incident Period: 01/22/2016 through 02/20/2016.

Effective Date: 02/25/2016.

EIDL Loan Application Deadline Date: 11/25/2016.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the Administrator's EIDL declaration, applications for economic injury disaster loans may be filed at the address listed above or other locally announced locations.

The following areas have been determined to be adversely affected by the disaster:

Primary Counties: Ventura.

Contiguous Counties:

California: Kern, Los Angeles, Santa Barbara.

The Interest Rates are:

| Percent
Businesses and Small Agricultural Cooperatives without Credit Available Elsewhere | 4.000
Non-Profit Organizations without Credit Available Elsewhere | 2.625

The number assigned to this disaster for economic injury is 146410.

The State which received an EIDL Declaration # is California.

(Catalog of Federal Domestic Assistance Number 59008)

Dated: February 25, 2016.
Maria Contreras-Sweet,
Administrator.

[FR Doc. 2016-04866 Filed 3-3-16; 8:45 am]

BILLING CODE 8025-01-P